DEPARTMENT OF TRANSPORTATION

Federal Aviation Administration

Notice of Passenger Facility Charge (PFC) Approvals and Disapprovals

AGENCY: Federal Aviation Administration (FAA), DOT.

ACTION: Monthly Notice of PFC Approvals and Disapprovals. In August 2012, there were two applications approved. Additionally, nine approved amendments to previously approved applications are listed.

SUMMARY: The FAA publishes a monthly notice, as appropriate, of PFC approvals and disapprovals under the provisions of the Aviation Safety and Capacity Expansion Act of 1990 (Title IX of the Omnibus Budget Reconciliation Act of 1990) (Pub. L. 101-508) and Part 158 of the Federal Aviation Regulations (14 CFR Part 158). This notice is published pursuant to paragraph d of § 158.29.

PFC Applications Approved

Public Agency: Charlottesville-Albemarle Airport Authority, Charlottesville, Virginia.

Application Number: 12-20-C-00-CHO.

Application Type: Impose and use a PFC.

PFC Level: $4.50.

Total PFC Revenue Approved In This Decision: $3,285,054.

Earliest Charge Effective Date: January 1, 2013.

Estimated Charge Expiration Date: July 1, 2016.

Class Of Air Carriers Not Required To Collect PFC'S: Air taxi/commercial operators filing or requested to file FAA From 1800-31.

Determination: Approved. Based on information contained in the public agency's application, the FAA has determined that the proposed class accounts for less than 1 percent of the total annual enplanements at Charlottesville Albemarle Airport.

Brief Description Of Projects Approved For Collection And Use:

Airfield lighting and vault.

Runway 21 extension—preliminary design.

Runway 21 extension—phase 1A.

Runway 21 extension—phase 1B offset localizer.

Runway 21 extension—phase 1B embankment.

Decision Date: August 6, 2012.

FOR FURTHER INFORMATION CONTACT: Jeffrey Breeden, Washington Airports District Office, (703) 661-1363.

Public Agency: Chattanooga Metropolitan Airport Authority, Chattanooga, Tennessee.

Application Number: 12-05-C-00-CHA.

Application Type: Impose and use a PFC.

Total PFC Revenue Approved In This Decision: $6,896,122.

PFC Level: $4.50.

Earliest Charge Effective Date: October 1, 2012.

Estimated Charge Expiration Date: June 1, 2017.

Class Of Air Carriers Not Required To COLLECT PFC'S: Air taxi/commercial operators filing FAA Form 1800-31 and operating at Chattanooga Metropolitan Airport (CHA).

Determination: Approved. Based on information contained in the public agency's application, the FAA has determined that the proposed class accounts for less than 1 percent of the total annual enplanements at CHA.

Brief Description Of Projects Approved For Collection And Use:

Terminal rehabilitation.

Wildlife assessment.

Solar farm—phase 1.

Computed Tomography—80 facility modification design and build-out.

Access control enhancements.

Security fence replacement.

Airfield pavement survey.

Jet bridge refurbishment.

Security checkpoint modification.

Friction measuring equipment.

Runway 20 resealing.

East public ramp expansion.

Terminal ramp rehabilitation.

North terminal ramp.

Preconditioned air and ground power units.

Runway protection zone land acquisition.

Police radios.

Police vehicle replacement.

Resurface west perimeter road.

Runway 2/20 edge light replacement.

Flight information displays.

Air stairs.

Replace airfield beacon.

PFC application development.

PFC program administration.

Brief Description of Project Partially Approved for Collection and Use:

Ground support equipment.

Determination: The lavatory and potable water carts do not meet the requirements of § 158.15(b).

Brief Description Of Withdrawn Projects:

Solar farm, phase 2.

5615 Lee Highway demolition.

Date Of Withdrawal: July 26, 2012.

Snow plow blade.

Date Of Withdrawal: August 6, 2012.

Decision Date: August 7, 2012.

FOR FURTHER INFORMATION CONTACT: Cynthia Wills, Memphis Airports District Office, (901) 322-8190.

Amendments to PFC Approvals
Amendment No. city, state | Amendment approved date | Original approved net PFC revenue | Amended approved net PFC revenue | Original estimatd charge exp. date | Amended estimated charge exp. date
10-12-C-01-SLC Sal Lake City, UT | 06/15/12 | $70,253,000 | $71,305,000 | 03/01/13 | 04/01/13
08-04-C-01-ABY Albany, GA | 07/26/12 | 341,518 | 337,287 | 08/01/10 | 08/01/10
09-04-C-01-FAY Fayetteville, NC | 08/08/12 | 3,796,330 | 1,992,908 | 06/01/14 | 10/01/12
98-01-C-01-CEC Crescent City, CA | 08/13/12 | 58,330 | 53,752 | 06/01/00 | 06/01/00
06-05-C-02-PUW Pullman, WA | 08/17/12 | 404,837 | 400,706 | 03/01/10 | 03/01/10
92-01-C-04-BNA Nashville, TN | 08/20/12 | 99,443,100 | 96,350,366 | 08/01/99 | 08/01/99
08-05-C-02-MSL Muscle Shoals, AL | 08/22/12 | 41,425 | 41,208 | 04/01/10 | 04/01/10
09-05-C-01-GUC Gunnison, CO | 08/24/12 | 396,438 | 500,506 | 04/01/19 | 05/01/20
08-07-C-01-CLM Port Angeles, WA | 08/24/12 | 191,838 | 36,129 | 10/01/11 | 10/01/11

Issued in Washington, DC, on May 2, 2013.
Joe Hebert,
Manager, Financial Analysis and Passenger Facility Charge Branch.

[FR Doc. 2013-11054 Filed 5-9-13; 8:45 am]

BILLING CODE 4910-13-M